DEPARTMENT OF STATE

[Public Notice 8048]

Presidential Determination No. 2012-16; Correction

AGENCY: Department of State.

ACTION: Notice; Correction.

SUMMARY: The Department of State published a document in the Federal Register on September 24, 2012 (77 FR 58921) concerning Presidential Determination No. 2012-16. The final sentence in the published document is incorrect. This notice corrects this error.

FOR FURTHER INFORMATION CONTACT: Janet Freer, (202) 312-9607.

Correction

In a notice that published September 24, 2012 in the Federal Register, 77 FR 58921, the following is corrected: In the final sentence of Presidential Determination No.2012-16, change to:

“You are hereby authorized and directed to submit this determination to the Congress, and to publish it in the Federal Register.”

Dated: September 28, 2012.
Janet Freer,
Acting Director, Office of Directives Management, U.S. Department of State.

[FR Doc. 2012-24704 Filed 10-4-12; 8:45 am]

BILLING CODE 4710-24-P